CONSUMER PRODUCT SAFETY COMMISSION

Sunshine Act Meetings

Time and Date: Wednesday, October 14, 2009, 9 a.m.-5 p.m. (Items 1-4, 9 a.m.-12 noon; Item 5, 2 p.m.-5 p.m.

Place: Hearing Room 420, Bethesda Towers, 4330 East West Highway, Bethesda, Maryland.

Status: Commission Briefing/Meeting-Open to the Public.

Matters To Be Considered

1. Lab Accreditation Requirements for Lead.

2. Brass Lead Exclusions Petition.

3. Lead Determination Guidance.

4. Recreational Off Highway Vehicles (ROHVS) ANPR.

5. Toy Safety Certification Program, Toy Industry Association (TIA), Consumers Union (CU) and Consumer Federation of America (CFA).

(This meeting was requested by the participants. For the convenience of all of the Commissioners, the meetings are being consolidated into one public meeting.)

A live webcast of the Briefing can be viewed at http://www.cpsc.gov/webcast/index.html.

For a recorded message containing the latest agenda information, call (301) 504-7948.

Contact Person for More Information: Todd A. Stevenson, Office of the Secretary, U.S. Consumer Product Safety Commission, 4330 East West Highway, Bethesda, MD 20814, (301) 504-7923.

Dated: October 6, 2009.
Todd A. Stevenson,
Secretary.

[FR Doc. E9-24533 Filed 10-9-09; 8:45 am]

BILLING CODE 6355-01-M